DEPARTMENT OF THE INTERIOR

Fish and Wildlife Service

[FWS-R9-IA-2008-N0203; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by September 12, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: University of Alaska Museum of the North, Fairbanks, AK, PRT-182602

The applicant requests a permit to import tissue samples of museum specimens of Vancouver Island marmot (Marmota vancouverensis) from the Royal Ontario Museum, Toronto, Ontario, Canada, for the purpose of scientific research.

Applicant: University of Kansas Biodiversity Institute, Lawrence, KS, PRT-677648

The applicant requests a renewal of their permit to export, re-export, and re-import non-living museum specimens of endangered and threatened species of plants and animals previously accessioned into the permittee's collection, for scientific research. This notification covers activities to be conducted by the applicant over a five-year period.

Applicant: Busch Gardens, Tampa, FL, PRT-174382

The applicant requests a permit to import one male and two female captive-born Bornean orangutans (Pongo pygmaeus pygmaeus) from the Auckland Zoological Park, New Zealand for the purpose of enhancement of the species through captive breeding and conservation education.

Applicant: Tom D. Smith, Grantsville, UT, PRT-181040

The applicant requests a permit to import the sport-hunted trophy of one male bontebok (Damaliscus pygargus pygargus) culled from a captive herd maintained under the management program of the Republic of South Africa, for the purpose of enhancement of the survival of the species.

Applicant: Sean E. Perry, White City, OR, PRT-183403

The applicant requests a permit to import the sport-hunted trophy of one male bontebok (Damaliscus pygargus pygargus) culled from a captive herd maintained under the management program of the Republic of South Africa, for the purpose of enhancement of the survival of the species.

Applicant: Robert W. Langenberg, Montgomery, AL, PRT-186876

The applicant requests a permit to import the sport-hunted trophy of one male bontebok (Damaliscus pygargus pygargus) culled from a captive herd maintained under the management program of the Republic of South Africa, for the purpose of enhancement of the survival of the species.

Applicant: Conley L. Marcum, Jr., Anchorage, AK, PRT-187825

The applicant requests a permit to import the sport-hunted trophy of one male bontebok (Damaliscus pygargus pygargus) culled from a captive herd maintained under the management program of the Republic of South Africa, for the purpose of enhancement of the survival of the species.

Applicant: Michael H. Shaw, Mayo, FL, PRT-188028

The applicant requests a permit to import the sport-hunted trophy of one male bontebok (Damaliscus pygargus pygargus) culled from a captive herd maintained under the management program of the Republic of South Africa, for the purpose of enhancement of the survival of the species.

Applicant: Mark C. Glass-Royal, Darnestown, MD, PRT-188839

The applicant requests a permit to import the sport-hunted trophy of one male bontebok (Damaliscus pygargus pygargus) culled from a captive herd maintained under the management program of the Republic of South Africa, for the purpose of enhancement of the survival of the species.

Applicant: David C. Lau, Oconomowoc, WI, PRT-187826

The applicant requests a permit to import the sport-hunted trophy of one male bontebok (Damaliscus pygargus pygargus) culled from a captive herd maintained under the management program of the Republic of South Africa, for the purpose of enhancement of the survival of the species.

Applicant: William F. Scott, Nederland, TX, PRT-185770

The applicant requests a permit to import the sport-hunted trophy of one male bontebok (Damaliscus pygargus pygargus) culled from a captive herd maintained under the management program of the Republic of South Africa, for the purpose of enhancement of the survival of the species.

Dated: July 18, 2008.
Lisa J. Lierheimer,
Senior Permit Biologist, Branch of Permits, Division of Management Authority.

[FR Doc. E8-18707 Filed 8-12-08; 8:45 am]

BILLING CODE 4310-55-P